DEPARTMENT OF TRANSPORTATION

Office of the Secretary

Aviation Proceedings, Agreements Filed the Week Ending January 18, 2008

The following Agreements were filed with the Department of Transportation under the sections 412 and 414 of the Federal Aviation Act, as amended (49 U.S.C. 1382 and 1384) and procedures governing proceedings to enforce these provisions. Answers may be filed within 21 days after the filing of the application.

Docket Number: DOT-OST-2008-0020.

Date Filed: January 14, 2008.

Parties: Members of the International Air Transport Association.

Subject: TC31 North & Central Pacific, Japan-North America, Caribbean, (Memo 0430), Intended effective date: 1 April 2008.

Docket Number: DOT-OST-2008-0027.

Date Filed: January 17, 2008.

Parties: Members of the International Air Transport Association.

Subject: Finally Adopted Resolutions For Expedited Effectiveness. Intended effective date: March 1, 2008 unless otherwise indicated.

Renee V. Wright,
Program Manager, Docket Operations, Federal Register Liaison.

[FR Doc. E8-12784 Filed 6-5-08; 8:45 am]

BILLING CODE 4910-9X-P